MILLENNIUM CHALLENGE CORPORATION

[MCC FR 18-13]

Notice of Open Meeting

AGENCY: Millennium Challenge Corporation.

ACTION: Notice.

SUMMARY: In accordance with the requirements of the Federal Advisory Committee Act, 5 U.S.C. App., the Millennium Challenge Corporation (MCC) Advisory Council was established as a discretionary advisory committee on July 14, 2016. Its charter was renewed for a second term on July 11, 2018. The MCC Advisory Council serves MCC in a solely advisory capacity and provides insight regarding innovations in infrastructure, technology and sustainability; perceived risks and opportunities in MCC partner countries; new financing mechanisms for developing country contexts; and shared value approaches. The MCC Advisory Council provides a platform for systematic engagement with the private sector and other external stakeholders and contributes to MCC's mission—to reduce poverty through sustainable, economic growth.

DATES: Monday, November 5, 2018, from 9:00 a.m.-2:00 p.m. EST which includes a working lunch.

ADDRESSES: The meeting will be held at the Millennium Challenge Corporation, 1099 14th Street NW, Suite 700, Washington, DC 20005.

FOR FURTHER INFORMATION CONTACT: Carisa Graf-Suleman, 202.766.0286, MCCAdvisoryCouncil@mcc.gov or visit https://www.mcc.gov/about/org-unit/advisory-council.

SUPPLEMENTARY INFORMATION:

Agenda. During the Fall/Winter 2018 meeting of the MCC Advisory Council, members will be provided an overview and update of MCC's work and discuss with MCC leadership the MCC selection process. The MCC Advisory Council will also provide advice on the compact development process and MCC's investment strategy in Sri Lanka. A guest speaker will discuss the changing development finance landscape with the MCC Advisory Council.

Public Participation. The meeting will be open to the public. Members of the public may file written statement(s) before or after the meeting. If you plan to attend, please submit your name and affiliation no later than Monday, October 29, 2018 to MCCAdvisoryCouncil@mcc.gov to be placed on an attendee list.

Dated: October 15, 2018.
Jeanne M. Hauch,
VP/General Counsel and Corporate Secretary.

[FR Doc. 2018-22740 Filed 10-17-18; 8:45 am]

BILLING CODE 9211-03-P